ENVIRONMENTAL PROTECTION AGENCY

[FRL-6577-4]

Clean Water Act Section 303(d): Availability of Total Maximum Daily Loads (TMDLs) and Determinations That TMDLs Are Not Needed

AGENCY: Environmental Protection Agency (EPA).

ACTION: Notice of availability.

SUMMARY: This notice announces the availability for comment of the administrative record file for 19 TMDLs, and the calculations for these TMDLs prepared by EPA Region 6 for waters listed in the Mermentau and Vermilion/Teche river basins, under section 303(d) of the Clean Water Act (CWA). The above TMDLs were completed in response to the October 1, 1999, Court Order in the Sierra Club, et al. v. Clifford et al., No. 96-0527 (E.D. La. Oct. 1, 1999). This Court Order required EPA to establish TMDLs for CWA section 303(d) listed waters in several basins, including the Mermentau and Vermilion/Teche river basins. This notice also announces the availability for comment of EPA determinations that TMDLs are not needed for 46 waterbody/pollutant combinations in the Mermentau and Vermilion/Teche river basins and an additional 2 listings in the Pearl River basin.

DATES: Comments must be submitted to EPA on or before May 12, 2000.

ADDRESSES: Comments on the 19 TMDLs and notice that TMDLs are not needed for 48 waterbodies should be sent to Ellen Caldwell, Environmental Protection Specialist, Water Quality Protection Division, U.S. Environmental Protection Agency Region 6, 1445 Ross Ave., Dallas, TX 75202-2733. For further information, contact Ellen Caldwell at (214) 665-7513. Copies of the TMDLs and their respective calculations may be viewed at www.epa.gov/region6/water/tmdl.htm, or obtained by writing or calling Ms. Caldwell at the above address. The administrative record file for these TMDLs is available for public inspection at the above address as well. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (Plaintiffs), filed a lawsuit in Federal Court against the United States Environmental Protection Agency (EPA). Among other claims, plaintiffs alleged EPA failed to fulfill a mandatory duty under CWA section 303(d), submission of a reasonable schedule and establishment of TMDLs for all Louisiana waters not satisfying water quality standards.

By the October 1, 1999, judgment (Sierra Club, et al. v. Clifford et al., No. 96-0527 [E.D. La. Oct. 1, 1999]), the Court disapproved EPA's proposed 12-year TMDL schedule. The Court, in part, ordered the following EPA actions:

(1) The defendants, EPA, shall prepare total maximum daily loads for Louisiana waters identified as not meeting water quality standards according to the following schedule:

(a) By December 31, 1999, for all of the waters in the Mermentau and Vermilion/Teche basins.

(b) By December 31, 2001, for all of the waters in the Calcasieu and Ouachita basins.

(c) By December 31, 2003, for all of the waters in the Barataria and Terrebonne basins.

(d) By December 31, 2005, for all of the waters in the Red and Sabine basins.

(e) By December 31, 2006, for all of the waters in the Pontchartrain basins.

(f) By December 31, 2007, for all of the waters in the Mississippi, Atchafalaya, and Pearl basins.

(2) The defendants, EPA, shall add or delete waters to the schedule as new data confirms that the waters are or are not meeting water quality standards. If a water is deleted from the identification of waters that do not meet water quality standards, the defendants need not prepare a total maximum daily load for the water. If an additional water is identified as not meeting water quality standards, the defendants shall prepare a total maximum daily load for the water by the applicable deadline in the schedule if the water is identified at least one year prior to the deadline. If the additional water is identified less than one year before the total maximum load would be due under the schedule, the defendants shall have discretion to prepare the load by the scheduled deadline or to extend the schedule.

(3) The defendants, EPA, may determine if the State of Louisiana wishes to assist the EPA in preparing any or all of the total maximum daily loads required by this schedule. If Louisiana elects to assume responsibility for preparation of any of the total maximum daily loads, it shall submit the load to the defendants by the dates indicated in the schedule described above. The defendants shall approve or disapprove any total maximum daily load submitted by the state within 30 days of its submission. If the defendants disapprove any total maximum daily load, the defendants shall prepare a total maximum load for the water within 30 days after the date of its disapproval. If after assuming responsibility for the preparation of any total maximum daily load, the state fails to submit the load to the EPA by the required deadline, the defendants shall prepare the total maximum daily load within 60 days after the deadline.

Consistent with earlier EPA representations, the administrative record file and calculations for the following nineteen TMDLs, prepared on waters located within the Mermentau and Vermilion/Teche basins, are available for review and comment:

Subsegment | Waterbody name | Pollutant
050201 | Bayou Plaquemine Brule | Mercury.
050101 | Bayou Des Cannes | Mercury.
050702 | Seventh Ward Canal (Intracoastal Waterway) | Mercury.
060203 | Chicot Lake | Mercury.
050901 | Coastal waters of the Gulf of Mexico (Mermentau River Basin Coastal) | Mercury.
061201 | Coastal waters of the Gulf of Mexico (Vermilion-Teche RB-CB&G) | Mercury.
050101 | Bayou Des Cannes | Fecal Coliform
050201 | Bayou Plaquemine Brule | Fecal Coliform
050301 | Bayou Nezpique | Fecal Coliform
050501 | Bayou Queue de Tortue | Turbidity
060208 | Bayou Boeuf | Fecal Coliform
060301 | Bayou Teche | Fecal Coliform
060401 | Bayou Teche | Fecal Coliform
060801 | Vermilion River | Fecal Coliform
060802 | Vermilion River | Fecal Coliform
060801 | Vermilion River | Dissolved Oxygen
060801 | Vermilion River | Nitrogen
060802 | Vermilion River | Dissolved Oxygen
060802 | Vermilion River | Nitrogen.

EPA regulations provide for public participation when the Agency establishes TMDLs. By this notice, and pursuant to 40 CFR part 130.7(d)(2), EPA is seeking comment on the above 19 TMDLs. While these TMDLs were prepared consistent with short time frames provided in the October 1, 1999, Court Order, EPA recognizes the importance of preparing both, timely and accurate TMDLs. Thus, EPA requests the public to provide any significant data and information that may impact these 19 TMDLs. If such data and information is submitted during the public comment period, EPA may determine it is necessary to revise any one, or some of the 19 TMDLs. After consideration of data and information submitted during the public comment period, and making any appropriate revisions, EPA will forward the TMDLs to the Court and the Louisiana Department of Environmental Quality (LDEQ). LDEQ will incorporate the TMDLs into its current water quality management plan.

Through this notice, EPA is also making available for comment EPA's February 25, 2000 determination that TMDLs are not needed for 46 waterbody/pollutant combinations in the Mermentau and Vermilion/Teche river basins and 2 in the Pearl River basin.

In response to the Court's October 1, 1999 Order, EPA on October 28, 1999 disapproved Louisiana's 1998 CWA section 303(d) list and, on November 1, 1999, submitted to the Court a Court Ordered CWA section 303(d) list and administrative record. EPA made the Court Ordered List available for public comment on November 29, 1999 (64 FR 66635). After review of water quality data and monitoring information and public comments, EPA issued a Modified Court Ordered CWA section 303(d) list on February 25, 2000. As part of that decision, EPA determined that 46 waterbody/pollutant combinations in the Mermentau and Vermilion/Teche basins and 2 in the Pearl River basin should be removed from the Court Ordered CWA section 303(d) list. The rationale for the determinations is set out in the Decision Document for the Modified Court Ordered § 303(d) List and further explained in Appendix E of that document and provided as follows:

050101 Bayou Des Cannes—Headwaters to Mermentau
Copper | New data shows it is meeting Water Quality Standards (WQS).
Lead | New data shows it is meeting WQS.
050201 Bayou Plaquemine Brule—Headwaters to Bayou Des Cannes
Lead | New data shows it is meeting WQS.
Phosphorus | New data shows it is meeting WQS.
Turbidity | New data shows it is meeting WQS.
050301 Bayou Nezpique—Headwaters to Mermentau
Copper | New data shows it is meeting WQS.
Lead | New data shows it is meeting WQS.
050401 Mermentau River — Origin to Lake Arthur
Phosphorus | Assessment of data shows it is meeting WQS.
Copper | New data shows it is meeting WQS.
Lead | New data shows it is meeting WQS.
Mercury | New data shows it is meeting WQS.
Suspended Solids | New data shows it is meeting WQS.
050501 Bayou Queue de Tortue—Headwaters to Mermentau
Lead | New data shows it is meeting WQS.
050601 Lacassine Bayou—Headwaters to Intracoastal Waterway
Phosphorus | Assessment of data shows it is meeting WQS.
Suspended Solids | New data shows it is meeting WQS.
Turbidity | New data shows it is meeting WQS.
Lead | New data shows it is meeting WQS.
050703 White Lake
Siltation | Assessment of data and information shows it is meeting WQS.
Turbidity | Assessment of data and information shows it is meeting WQS.
Lead | New data shows it is meeting WQS.
050801 Mermentau River—Catfish Point Control Structure to Gulf of Mexico (Estuarine)
Copper | New data shows it is meeting WQS.
060101 Spring Creek—Headwaters to Cocodrie Lake
Siltation | Assessment of data shows it is meeting WQS.
Turbidity | New data shows it is meeting WQS.
Cadmium | New data shows it is meeting WQS.
Copper | New data shows it is meeting WQS.
Lead | New data shows it is meeting WQS.
Mercury | New data shows it is meeting WQS.
060102 Cocodrie Lake
Cadmium | Original basis for listing determined to be inaccurate.
Copper | Original basis for listing determined to be inaccurate.
Lead | Original basis for listing determined to be inaccurate.
060201 Bayou Cocodrie from US Highway 167 to the Boeuf-Cocodrie Diversion Canal
Lead | New data shows it is meeting WQS.
060203 Chicot Lake
Copper | New data shows it is meeting WQS.
Lead | New data shows it is meeting WQS.
060204 Bayou Courtableau—Origin to West Atchafalaya Borrow Pit Canal
Lead | New data shows it is meeting WQS.
060205 Bayou Teche—Headwaters at Bayou Courtableau to I-10
Lead | New data shows it is meeting WQS.
060401 Bayou Teche—Keystone Locks & Dam to Charenton Canal
Phosphorus | Assessment of data shows it is meeting WQS.
060501 Bayou Teche—Charenton Canal to Wax Lake Outlet
Phosphorus | Assessment of data shows it is meeting WQS.
060702 Lake Fausse Point and Dauterive Lake
Phosphorus | Assessment of data shows it is meeting WQS.
060801 Vermilion River—Headwaters at Bayou Fusilier-Bourbeaux Junction to New Flanders (Ambassador Caffery Bridge)
Phosphorus | Assessment of data shows it is meeting WQS.
Cadmium | New data shows it is meeting WQS.
Lead | New data shows it is meeting WQS.
060802 Vermilion River from New Flanders (Ambassador Caffery Bridge) New Bridge, LA Hwy 3073 to Intracoastal Waterway
Phosphorus | Assessment of data shows it is meeting WQS.
Lead | New data shows it is meeting WQS.
060902 Bayou Carlin (Delcambre Canal) Lake Peigneur to Bayou Petite Anse (Estuarine)
Copper | New data shows it is meeting WQS.
061104 Vermilion Bay
Copper | New data shows it is meeting WQS.
090101 Pearl River
Copper | New data shows it is meeting WQS.
090202 West Pearl River
Copper | New data shows it is meeting WQS.
110507 Bayou Anacoco
Dioxin | Original basis for listing determined to be inaccurate, dioxin included with priority organics listing.

EPA request the public to provide any significant data or information warranting revision of EPA's decision to remove these 48 waterbody/pollutant combinations. If such data or information is submitted during the public comment period, EPA may revise the Modified Court Ordered List accordingly. EPA is not requesting comment on any other aspect of its February 25, 2000, decision on the Modified Court Ordered CWA section 303(d) list.

Dated: March 25, 2000.
Oscar Ramirez, Jr.,
Acting Director, Water Quality Protection Division, Region 6.

[FR Doc. 00-9093 Filed 4-11-00; 8:45 am]

BILLING CODE 6560-50-P